GENERAL SERVICES ADMINISTRATION

[Notice-MRB-2022-04; Docket No. 2022-02; Sequence No. 25]

GSA Acquisition Policy Federal Advisory Committee; Notification of Upcoming Web-Based Public Meeting

AGENCY: Office of Government-wide Policy, General Services Administration (GSA).

ACTION: Notice.

SUMMARY: GSA is providing notice of a meeting of the GSA Acquisition Policy Federal Advisory Committee (hereinafter “the Committee” or “the GAP FAC”) in accordance with the requirements of the Federal Advisory Committee Act. This meeting will be open to the public. Information on attending and providing written public comment is under the SUPPLEMENTARY INFORMATION section.

DATES: The GSA Acquisition Policy Federal Advisory Committee will hold a web-based open public meeting on October 27, 2022, from 1:00 p.m. to 4:00 p.m. Eastern Standard Time (EST).

ADDRESSES: The meeting will be accessible via webcast. Registrants will receive the webcast information before the meeting.

FOR FURTHER INFORMATION CONTACT: Boris Arratia, Designated Federal Officer, Office of Government-wide Policy, 703-795-0816, or email: boris.arratia@gsa.gov; or Stephanie Hardison, Office of Government-wide Policy, 202-258-6823, or email: stephanie.hardison@gsa.gov. Additional information about the Committee, including meeting materials and agendas, will be available on-line at https://gsa.gov/policy-regulations/policy/acquisition-policy/gsa-acquisition-policy-federal-advisory-committee.

SUPPLEMENTARY INFORMATION: The Administrator of GSA established the GSA Acquisition Policy Federal Advisory Committee) as a discretionary advisory committee under agency authority in accordance with the provisions of the Federal Advisory Committee Act (FACA), as amended (5 U.S.C. App 2).

As America's buyer, GSA is uniquely positioned to enable a modern, accessible, and streamlined acquisition ecosystem and a robust marketplace connecting buyers to the suppliers and businesses that meet their mission needs. The GAP FAC will assist GSA in this endeavor through expert advice on a broad range of innovative solutions to acquisition policy, workforce, and industry partnership challenges.

The GAP FAC will serve as an advisory body to GSA's Administrator on how GSA can use its acquisition tools and authorities to target the highest priority Federal acquisition challenges. The GAP FAC will advise GSA's Administrator on emerging acquisition issues, challenges, and opportunities to support its role as America's buyer.

The initial focus for the GAP FAC will be on driving regulatory, policy, and process changes required to embed climate and sustainability considerations in Federal acquisition. This includes examining and recommending steps GSA can take to support its workforce and industry partners in ensuring climate and sustainability issues are fully considered in the acquisition process.

Purpose of the Meeting

The purpose of this meeting is to set the priorities and start the work of three GAP FAC subcommittees: Policy and Practices, Industry Partnerships, and Acquisition Workforce.

Meeting Agenda

• Opening Remarks

• Policy and Practices Subcommittee Priorities Discussion

• Industry Partnerships Subcommittee Priorities Discussion

• Acquisition Workforce Subcommittee Priorities Discussion

• Closing Remarks and Adjourn

Meeting Registration

The meeting is open to the public. The meeting will be accessible by webcast. Registration is required for web viewing. To register, go to: https://www.eventbrite.com/e/october-2022-gap-fac-public-meeting-tickets-433294614857 Online registration closes at 5:00 p.m. EST October 26, 2022. All registrants will be asked to provide their name, affiliation, and email address. After registration, individuals will receive webcast access information via email.

Public Comments

Written public comments are being accepted throughout the life of the Committee. Written comments can be sent to gapfac@gsa.gov. For comments specific to this public meeting, submit the comment via email by October 26, 2022 with the meeting date in the subject line. Comments submitted after this date will still be provided to the Committee members, but please be advised that Committee members may not have adequate time to consider the comments prior to the meeting.

Special Accomodations

For information on services for individuals with disabilities, or to request accommodation of a disability, please contact the Designated Federal Officer at least 10 business days prior to the meeting to give GSA as much time as possible to process the request. Closed captioning and live ASL interpreter services will be available.

Boris Arratia,
Designated Federal Officer, Office of Government-wide Policy, General Services Administration.

[FR Doc. 2022-22133 Filed 10-11-22; 8:45 am]

BILLING CODE 6820-61-P